DEPARTMENT OF ENERGY

Federal Energy Regulatory Commission

[Docket No. CP02-134-000]

Transwestern Pipeline Company; Notice of Application

April 5, 2002.

Take notice that on April 2, 2002, Transwestern Pipeline Company (Transwestern), 1400 Smith Street, Houston, Texas 77002-7361, filed in Docket No. CP02-134-000, a certificate of public convenience and necessity application, pursuant to section 7 (c) of the Natural Gas Act (NGA) for authorization to add capacity on its San Juan lateral in New Mexico and Colorado, all as more fully set forth in the application which is on file with the Commission and open to public inspection. This filing may be viewed on the Web at http://www.ferc.gov using the “RIMS” link, select “Docket # “ from the RIMS menu and follow the instructions (call (202)208-2222 for assistance).

Transwestern proposes to add an incremental 10,000 Dekatherms of capacity on a daily, year-round basis to the existing San Juan lateral, which extends from Transwestern's LaPlata “A” Compressor Station in LaPlata County, Colorado, to a point on Transwestern's mainline near Thoreau, New Mexico. Transwestern states that the capacity will be made available as the result of installation of air-cooling facilities at Transwestern's Bloomfield Compressor Station, located in San Juan County, New Mexico. It is stated that Transwestern is installing the air-cooling facilities under section 2.55 of the Commission's Regulations for the purpose of obtaining more efficient and economical operation of the gas turbine units at the Bloomfield Compressor Station. It is asserted that the existing capacity of the San Juan lateral is fully subscribed and that the additional capacity would be available for sale on a long-term basis and would enable Transwestern to respond to increasing market demand. It is explained that Transwestern proposes to hold an open season for commitments for the additional capacity.

Any questions regarding this application should be directed to Robert B. Kilmer, Vice President, Rates and Certificates, Transwestern Gas Transmission Company, at 713-853-6160.

There are two ways to become involved in the Commission's review of this project. First, any person wishing to obtain legal status by becoming a party to the proceedings for this project should, on or before April 15, 2002, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the Internet in lieu of paper. See 18 CFR 385.2001(a)(1)(iii) and the Commission's Web site at http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Magalie R. Salas,
Secretary.

[FR Doc. 02-9256 Filed 4-16-02; 8:45 am]

BILLING CODE 6717-01-P